DEPARTMENT OF COMMERCE

International Trade Administration

University of Arkansas, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue NW., Washington, DC.

Docket Number: 11-059. Applicant: University of Arkansas Office of Business Affairs, Fayetteville, AR 72701-1201. Instrument: Electron Microscope. Manufacturer: JEOL Ltd., Japan. Intended Use: See notice at 76 FR 61668, October 5, 2011.

Docket Number: 11-060. Applicant: Brookhaven National Laboratory, Upton, NY 11973. Instrument: Electron Microscope. Manufacturer: JEOL, Ltd., Japan. Intended Use: See notice at 76 FR 58245, September 20, 2011.

Docket Number: 11-062. Applicant: University of Buffalo, Buffalo, NY 14203. Instrument: Electron Microscope. Manufacturer: FEI, Czech Republic. Intended Use: See notice at 76 FR 61668, October 5, 2011.

Docket Number: 11-063. Applicant: Mount Sinai School of Medicine, New York, NY 10029-6574. Instrument: Electron Microscope. Manufacturer: JEOL Ltd., Japan. Intended Use: See notice at 76 FR 61669, October 5, 2011.

Docket Number: 11-064. Applicant: University of Wyoming, Laramie, WY 82071. Instrument: Electron Microscope. Manufacturer: FEI, Czech Republic. Intended Use: See notice at 76 FR 61669, October 5, 2011.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: November 1, 2011.
Gregory W. Campbell,
Director, Subsidies Enforcement Office, Import Administration.

[FR Doc. 2011-28799 Filed 11-4-11; 8:45 am]

BILLING CODE 3510-DS-P